DEPARTMENT OF COMMERCE

National Institute of Standards and Technology

National Artificial Intelligence Advisory Committee

AGENCY: National Institute of Standards and Technology, Department of Commerce.

ACTION: Notice of open meeting.

SUMMARY: The National Institute of Standards and Technology (NIST) announces that the National Artificial Intelligence Advisory Committee (NAIAC or Committee) will hold an open meeting via webcast on July 19, 2023, from 2:00 p.m.-3:30 p.m. Eastern Time. The primary purpose of this meeting is for Committee Members to discuss each NAIAC working group's goals and deliverables. The final agenda will be posted to the NAIAC website: ai.gov/naiac/.

DATES: The meeting will be held from 2:00 p.m.-3:30 p.m. Eastern Time on Wednesday, July 19, 2023.

ADDRESSES: The meeting will be held via webcast. Please see the SUPPLEMENTARY INFORMATION section of this notice for instructions on how to attend.

FOR FURTHER INFORMATION CONTACT: Alicia Chambers, Committee Liaison Officer, National Institute of Standards and Technology, 100 Bureau Drive, MS 1000, Gaithersburg, MD 20899, alicia.chambers@nist.gov or 301-975-5333, or Melissa Banner, Designated Federal Officer, National Institute of Standards and Technology, 100 Bureau Drive, MS 1000, Gaithersburg, MD 20899, melissa.banner@nist.gov or 301-975-5245. Please direct any inquiries to naiac@nist.gov.

SUPPLEMENTARY INFORMATION: Pursuant to the Federal Advisory Committee Act, as amended, 5 U.S.C. 1001 et seq., notice is hereby given that the NAIAC will meet from 2:00 p.m.-3:30 p.m. Eastern Time on Wednesday, July 19, 2023. The meeting will be open to the public and will be held virtually via webcast. The primary purpose of this meeting is for Committee Members to discuss each NAIAC working group's goals and deliverables. The final agenda and meeting time will be posted to the NAIAC website: ai.gov/naiac/.

The NAIAC is authorized by section 5104 of the National Artificial Intelligence Initiative Act of 2020 (Pub. L. 116-283), in accordance with the provisions of the Federal Advisory Committee Act, as amended (FACA), 5 U.S.C. 1001 et seq. The Committee advises the President and the National Artificial Intelligence Initiative Office on matters related to the National Artificial Intelligence Initiative. Additional information on the NAIAC is available at ai.gov/naiac/.

Comments: Individuals and representatives of organizations who would like to offer comments and suggestions related to items on the Committee's agenda for this meeting are invited to submit comments in advance of the meeting. Approximately ten minutes will be reserved for public comments, which will be read on a first-come, first-served basis. Please note that all submitted comments will be treated as public documents and will be made available for public inspection. All comments must be submitted via email with the subject line “July 19, 2023, NAIAC Meeting Comments” to naiac@nist.gov by 5:00 p.m. Eastern Time, Tuesday, July 18, 2023.

Virtual Admittance Instructions: The meeting will be held via webcast. The log-in instructions for the webcast will be made available on ai.gov/naiac/#MEETINGS.

Alicia Chambers,
NIST Executive Secretariat.

[FR Doc. 2023-14025 Filed 6-30-23; 8:45 am]

BILLING CODE 3510-13-P